FEDERAL COMMUNICATIONS COMMISSION

47 CFR Part 54

[CC Docket No. 96-45; DA 00-1783]

Federal-State Joint Board on Universal Service: Promoting Deployment and Subscribership in Unserved and Underserved Areas, Including Tribal and Insular Areas; Extension of Comment Cycle

AGENCY: Federal Communications Commission.

ACTION: Proposed rule; extension of comment dates.

SUMMARY: In this document the Commission extends the comment cycle for a Further Notice of Proposed Rulemaking (FNPRM) released by the Commission on June 30, 2000 in FCC 00-208. The Commission has extended the comment cycle to give the public more time to respond. The Commission extends the original comment date by twenty-five days to September 1, 2000. The reply comment date has been extended by eighteen days to September 15, 2000.

DATES: Submit comments on or before September 1, 2000 and reply comments on or before September 15, 2000.

ADDRESSES: Federal Communications Commission, 445 12th Street, S.W., Washington, DC 20554, Room TW-B204.

FOR FURTHER INFORMATION CONTACT: Gene Fullano (202) 418-7400 TTY: (202) 418-0484.

SUPPLEMENTARY INFORMATION: On June 30, 2000, the Commission released the Twelfth Report and Order, 65 FR 47883 (August 4, 2000), and Further Notice of Proposed Rulemaking, 65 FR 47941 (August 4, 2000). This Order adopts measures to promote telecommunications subscribership and infrastructure deployment within federally recognized tribal lands. In the FNPRM, the Commission sought comment on issues relating to the designation of eligible telecommunications carriers, establishing comment and reply comment dates of August 7 and August 28, 2000, respectively.

We extend the comment and reply comment dates to September 1 and September 15, 2000, respectively. All comments should be filed pursuant to the instructions provided in the FNPRM.

Katherine L. Schroder,
Deputy Chief, Accounting Policy Division.

[FR Doc. 00-20407 Filed 8-10-00; 8:45 am]

BILLING CODE 6712-01-P